DEPARTMENT OF HEALTH AND HUMAN SERVICES

Indian Health Service

[Funding Opportunity Number HHS-2005-IHS-SP-0001; CFDA Numbers: 93.123, 93.971, and 93.972]

Health Professions Preparatory, Health Professions Pregraduate and Indian Health Professions Scholarship Programs; Announcement Type: Initial

Key Dates:

Application Deadline: March 28, 2005.

Application Review: April 11-April 15, 2005.

Application Notification: Third week of July 2005.

Anticipated Award Start Date: August 31, 2005.

I. Funding Opportunity Description

The Indian Health Service (IHS) is committed to encouraging American Indians and Alaska Natives to enter the health professions and to assuring the availability of Indian health professionals to serve Indians. The IHS is committed to the recruitment of students for the following programs:

• The Indian Health Professions Preparatory Scholarships authorized by section 103(b)(1) of the Indian Health Care Improvement Act (IHCIA), Public Law 94-437, as amended by Public Law 100-713, Public Law 102-573, and Public Law 104-313, CFDA #93.123.

• The Indian Health Professions Pregraduate Scholarships section 103(b)(2) of the Indian Health Care Improvement Act (IHCIA), Public Law 94-437, as amended by Public Law 100-713, Public Law 102-573, and Public Law 104-313, CFDA #93.971.

• The Indian Health Professions Scholarship section 104 of the IHCIA, Public Law 94-437, as amended by Public Law 100-713, by Public Law 102-573, and by Public Law 104-313, CFDA #93.972.

Full-time and part-time scholarships will be funded for each of the three scholarship programs. The Public Health Service (PHS) is committed to achieving the health promotion and disease prevention objectives of Healthy People 2010, a PHS-led activity for setting priority areas. This program announcement is related to the priority area of Education and Community-Based Programs. Potential applicants may obtain a copy of Healthy People 2010, (Full Report; Stock No. 017-001-00474-0) or Healthy People 2010 (Summary Report; Stock No. 017-001-00473-1) through the Superintendent of Documents, Government Printing Office, Washington, DC 20402-9325 (Telephone (202) 783-3238).

II. Award Information

Awards under this initiative will be administered using the institutional grant mechanism of the IHS.

Estimated Funds Available: An estimated $7.8 million will be available for FY 2005 awards.

Anticipated Number of Awards: Approximately 200 awards will be made under the Health Professions Preparatory and Pregraduate Scholarship Programs for Indians. The awards are for 10 months in duration and the average award to a full-time student is approximately $23,000. An estimated 340 awards will be made under the Indian Health Scholarship (Professions) Program. The awards are for 12 months in duration and the average award to a full-time student is for approximately $25,000. In FY 2005, an estimated $3,410,000 is available for continuation awards, and an estimated $4,485,000 is available for new awards.

Project Period—The project period will vary based on the type of scholarship for which the grantee applies.

Max Project Period—The project period for the Health Professions Preparatory Scholarship support is limited to 2 years for full-time students and the part-time equivalent of 2 years, not to exceed 4 years for part-time students. The project period for the Health Professions Pregraduate Scholarship Support is limited to 4 years for full-time students and the part-time equivalent of 4 years, not to exceed 8 years for part-time students. The Indian Health Professions Scholarship support is limited to 4 years for full-time students and the part-time equivalent of 4 years, not to exceed 8 years for part-time students.

III. Eligibility Information

1. Eligible Applicants

The Health Professions Preparatory Scholarship awards are made to American Indians (state recognized Tribal members, federally recognized Tribal members, and first and second degree descendants of Tribal members), or Alaska Natives who:

• Have successfully completed high school education or high school equivalency; and

• Have been accepted for enrollment in a compensatory, pre-professional general education course or curriculum.

The Health Professions Pregraduate Scholarship awards are made to American Indians (state recognized Tribal members, federally recognized Tribal members, and first and second degree Tribal members), or Alaska Natives who:

• Have successfully completed high school education or high school equivalency; and

• Have been accepted for enrollment or are enrolled in an accredited pregraduate program leading to a baccalaureate degree in pre-medicine or pre-dentistry.

The Indian Health Scholarship (Professions) may be awarded only to an individual who is a member of a federally recognized Indian Tribe as provided by section 4(c), and 4(d) of the IHCIA. Membership in a Tribe recognized only by a state does not meet this statutory requirement. To receive an Indian Health Scholarship (Professions) an otherwise eligible individual must be enrolled in an appropriately accredited school and pursuing a course of study in a health profession as defined by section 4(n) of the IHCIA.

2. Cost Sharing/Matching

The Scholarship Program does not require matching funds or cost sharing to participate in the competitive grant process.

IV. Application and Submission Information

1. Address To Request Application Package

Applicants are responsible for contacting and requesting an application packet from their IHS Area coordinator. They are listed on the IHS Web site at http://www.ihs.gov/JobsCareerDevelop/DHPS/Scholarships/SCoordinator_Directory.asp. This information is listed below. Please review the following list to identify the appropriate IHS Area coordinator for your state. Application packets may be obtained by calling or writing to the following individuals listed below:

IHS area office and States / locality served | Scholarship coordinator / address
Aberdeen Area IHS: Iowa, Nebraska, North Dakota, South Dakota | Ms. Kim Lawrence, IHS Area Coordinator, Aberdeen Area IHS, 115 4th Avenue, SE., Aberdeen, SD 57401, Tele: (605) 226-7532.
Alaska Native Tribal Health Consortium: Alaska | Ms. Evangelyn Dotomain, IHS Area Coordinator, 4000 Ambassador Drive, Anchorage, Alaska 99508, Tele: (907) 729-1913.
Albuquerque Area IHS: Colorado, New Mexico | Ms. Arnissa Vallo, IHS Area Coordinator, Albuquerque Area IHS, 5300 Homestead Road, NE., Albuquerque, NM 87110, Tele: 1-800-382-3027.
Bemidji Area IHS: Illinois, Indiana, Michigan, Minnesota, Wisconsin | Mr. Tony Buckanaga, IHS Area Coordinator, Bemidji Area IHS, 522 Minnesota Avenue, NW., Room 209, Bemidji, MN 56601, Tele: (218) 444-0486.
Billings Area IHS: Montana, Wyoming | Mr. Sandy Macdonald, IHS Area Coordinator, Billings Area IHS, Area Personnel Office, P.O. Box 36600, 2900 4th Avenue, North, Billings, MT 59103, Tele: (406) 247-7210.
California Area IHS: California, Hawaii | Ms. Mona Celli, IHS Area Coordinator, California Area IHS, 650 Capitol Mall, Suite 7-100, Sacramento, CA 95814, Tele: (916) 930-3981.
Nashville Area IHS: Alabama, Arkansas, Connecticut, Delaware, Florida, Georgia, Kentucky, Louisiana, Maine, Maryland, Massachusetts, Mississippi, New Hampshire, New Jersey, New York, North Carolina, Ohio, Pennsylvania, Rhode Island, South Carolina, Tennessee, Vermont, Virginia, West Virginia, District of Columbia | Ms. Arnissa Vallo, IHS Area Coordinator, Nashville Area IHS, 5300 Homestead Road, NE., Albuquerque, NM 87110, Tele: 1-800-382-3027.
Navajo Area IHS: Arizona, New Mexico, Utah | Ms. Roselinda Allison, IHS Area Coordinator, Navajo Area IHS, P.O. Box 9020, Window Rock, AZ 86515, Tele: (928) 871-1358.
Oklahoma City Area IHS: Kansas, Missouri, Oklahoma | Mr. Jim Ingram, IHS Area Coordinator, Oklahoma City Area IHS, HC 67, Box 132, Marietta, OK 73448, Tele: (580) 276-5983.
Phoenix Area IHS: Arizona, Nevada, Utah | Mr. Al Peyketewa, IHS Area Coordinator, Phoenix Area IHS, Two Renaissance Square, 40 North Central Avenue, Suite #510, Phoenix, AZ 85004, Tele: (602) 364-5252.
Portland Area IHS: Idaho, Oregon, Washington | Ms. Athena Bezahaloni, IHS Area Coordinator, Portland Area IHS, 1220 SW. Third Area IHS, Rm. 440e, Portland, OR 97204-2892, Tele: (503) 326-2625.
Tucson Area IHS: Arizona, Texas | Ms. Reanetta Siquieros, IHS Area Coordinator, Tucson Area IHS, 7900 South “J.” Stock Rd., Tucson, AZ 85746, Tele: (520) 295-2440.

2. Content and Form of Application Submission

Each applicant will be responsible for submitting the completed application (Forms IHS-856-1, through 856-8) to their IHS Area coordinator. Electronic applications are not being accepted for this cycle. The application will be considered complete if the following documents are included.

• Application Checklist.

• Original Signed Complete Application Form IHS-856 (Continuation Students—Data Sheet).

• Letter of Acceptance from College/Proof of Application to Health Professions Program.

• Official Transcripts for All Colleges.

• Cumulative GPA: Applicants Calculation.

• Documents for Indian Eligibility.

A. If you are a member of a federally recognized Tribe (recognized by the Secretary of the Interior), provide evidence of membership such as:

(1) Certification of Tribal enrollment by the Secretary of the Interior, acting through the Bureau of Indian Affairs (BIA Certification: Form 4432—Category A or D, which ever is applicable); or

(2) In the absence of BIA certification, documentation that you meet requirements of Tribal membership as prescribed by the charter, articles of incorporation or other legal instrument of the Tribe and have been officially designated as a Tribal member as evidenced by an accompanying document signed by an authorized Tribal official, or

(3) Other evidence of Tribal membership satisfactory to the Secretary of the Interior.

B. If you are a member of a Tribe terminated since 1940 or a State recognized Tribe, provide official documentation that you meet the requirements of Tribal membership as prescribed by the charter, articles of incorporation or other legal instrument of the Tribe and have been officially designated as a Tribal member as evidenced by an accompanying document signed by an authorized Tribal official; or other evidence, satisfactory to the Secretary of the Interior, that you are a member of the Tribe. In addition, if the terminated or state recognized Tribe of which you are a member is not on a list of such Tribes published by the Secretary of the Interior in the Federal Register, you must submit an official signed document that the Tribe has been terminated since 1940 or is recognized by the state in which the Tribe is located in accordance with the law of that state.

C. If you are not a Tribal member but are a natural child or grandchild of a Tribal member, you must submit: (1) Evidence of that fact, e.g., your birth certificate and/or your parent's birth certificate showing the name of the Tribal member: and (2) evidence of your parent's or grandparent's Tribal membership in accordance with paragraphs A and B. The relationship to the Tribal member must be clearly documented. Applications that do not provide the required documentation will be deemed incomplete and will be returned to the applicant.

Note: If you meet the criteria of B or C you are eligible only for the Preparatory or Pregraduate Scholarships.

• Two Faculty/Employer Evaluations with original signature.

• Reasons for Requesting Scholarship.

• Delinquent Debt Form.

• Course Curriculum Verification with signature.

• Acknowledgment Card.

• Section 103/103P Agreement Signed and Dated (Form IHS-817).

• Curriculum for Major.

Health Professions Applicants Only:

• Section 104 Contract Signed and Dated (Form IHS-818).

• Health Related Experience (MPH only)—Optional Form.

3. Submission Dates and Times

Application Receipt Date: The application deadline for both new and continuing applicants is Monday, February 28, 2005. Applications shall be considered as meeting the deadline if they are received by the appropriate IHS Area Coordinator on the deadline date or postmarked on or before the deadline date. Applicants should request a legibly dated U.S. Postal Service postmark or obtain a legibly dated receipt from a commercial carrier or U.S. Postal Service. Private metered postmarks will not be acceptable as proof of timely mailing. Applications will not be considered for funding. Once the application is received, the applicant will receive an “Acknowledge of Receipt of Application” (IHS-815) card that is included in the application packet.

4. Intergovernmental Review

Executive Order 12372 requiring intergovernmental review is not applicable to this program.

5. Funding Restrictions

No more than 5% of available funds will be used for part-time scholarships this fiscal year. Students are considered part-time if they are enrolled for a minimum of 6 hours of instruction and are not considered in full-time status by their college/university. Documentation must be received from part-time applicants that their school and course curriculum allows less than full-time status. Both part-time and full-time scholarship awards will be made in accordance with 42 CFR parts 36.320, 36.370 and 36.330 incorporated in the application materials; and for Health Professions Scholarship Program for Indians.

6. Other Submission Requirements

Applicants are responsible for contacting and requesting an application packet from their IHS Area Coordinator. Electronic applications are not being accepted for this cycle.

V. Application Review Information

1. Criteria

Applications will be reviewed and scored with the following criteria:

• Need of the IHS. Applicants are considered for scholarship awards based on their desired career goals and how these goals relate to current Indian health manpower needs. Applications for each health career category are reviewed and ranked separately.

• Academic Performance (40 points). Applicants are rated according to their academic performance as evidenced by transcripts and faculty evaluations. In cases where a particular applicant's school has a policy not to rank students academically, faculty members are asked to provide a personal judgement of the applicant's achievement. Health Professions applicants with a cumulative GPA below 2.0 are not eligible to apply.

• Faculty/Employer Recommendations (30 points). Applicants are rated according to evaluations by faculty members and current and/or former employers regarding the applicant's potential in the chosen health related professions.

• Stated Reasons for Asking for the Scholarship and Stated Career Goals (30 points). Applicants must provide a brief written explanation of reasons for asking for the scholarship and of their career goals. The applicant's narrative will be judged on how well it is written and content.

• Applicants who are closest to graduation or completion are awarded first. For example, senior and junior applicants under the Health Professions Pregraduate Scholarship receive funding before freshmen and sophomores.

• Priority Categories. The following is a list of health professions that will be funded in each scholarship program in FY 2005.

• Health Professions Preparatory Scholarships.

A. Pre-Dietetics.

B. Pre-Engineering (Environmental Health).

C. Pre-Medical Technology.

D. Pre-Nursing.

E. Pre-Pharmacy.

F. Pre-Physical Therapy (Jr and Sr undergraduate years).

G. Pre-Social Work (Jr and Sr undergraduate years).

• Health Professions Pregraduate Scholarships.

A. Pre-Dentistry.

B. Pre-Medicine.

• Indian Health Scholarships (Professions).

A. Associate Degree Nurse.

B. Chemical Dependency Counseling: Baccalaureate and Masters level.

C. Clinical Psychology: Ph.D. only.

D. Counseling Psychology: Ph.D. only.

E. Dental Hygiene: B.S.

F. Dentistry: D.D.S. or D.M.D.

G. Diagnostic Radiology Technology: Certificate, Associate, and B.S.

H. Dietitian: B.S.

I. Engineering (Environmental Health): B.S.

J. Environmental Health (Sanitarian): B.S.

K. Health Care Administration: Masters Level Only.

L. Health Education: Masters Level Only.

M. Health Records: R.H.I.T and R.H.I.A.

N. Injury Prevention Specialist.

O. Medical Technology: B.S.

P. Medicine: Allopathic and Osteopathic.

Q. Nurse: B.S.

R. Nurse: Nurse Anesthetist

*(Priority consideration will be given to Registered Nurses employed by the Indian Health Service; in a program assisted under a contract entered into under the Indian Self-Determination Act; or in a program assisted under Title V of the Indian Health Care Improvement Act.)

S. Optometry.

T. Pharmacy: Pharm D.

U. Physician Assistant.

V. Physical Therapy: M.S. and D.P.T.

W. Podiatry: D.P.M.

X. Public Health: M.P.H. only (Applicants must be enrolled or accepted in a school of public health).

Y. Public Health Nutrition: Masters level only.

Z. Respiratory Therapy: Associate.

AA. Social Work: Masters level only (Concentration in Mental Health).

BB. Ultrasonography (Prerequisite: Diagnostic Radiology Technology).

2. Review and Selection Process

The applications will be reviewed & scored by the IHS Scholarship Programs' Application Review Committee appointed by the IHS. Each reviewer will not be allowed to review an application from his/her area or his/her own Tribe. Each application will be reviewed by 3 reviewers. The average score of the three reviews provide the final Ranking Score for each applicant. To determine the ranking of each applicant, these scores are sorted from the highest to the lowest within each scholarship, health discipline, date of graduation, and score. If several students have the same date of graduation and score within the same discipline, computer ranking list will randomly sort and will not be sorted by alphabetical name. Selections for recommendations to the Director, IHS, are then made from the top of each ranking list to the extent that funds allocated by the IHS among the three scholarships are available for obligation.

VI. Award Administration Information

1. Award Notices

Applicants will be notified in writing during the first week of July, 2005. An Award Letter will be issued to successful applicants. Unsuccessful applicants will be notified in writing, which will include a brief explanation of the reasons the application was not successful and provide the name of the IHS official to contact if more information is desired.

2. Administrative and National Policy Requirements

Awards for the Indian Health Scholarships (Professions) will be made in accordance with 42 CFR 36.330. Recipients shall incur a service obligation prescribed under section 338A of the Public Health Service Act (42 U.S.C. 254l) which shall be met by service:

(1) In the Indian Health Service;

(2) In a program conducted under a contract or compact entered into under the Indian Self-Determination Act and Education Assistance Act (Public Law 93-638) and its amendments.

(3) In a program assisted under Title V of the Indian Health Care Improvement Act (Public Law 94-437) and its amendments; and

(4) In private practice of his or her profession, if the practice (a) is situated in a health professional shortage area, designated in regulations promulgated by the Secretary and (b) addresses the health care needs of a substantial number of Indians as determined by the Secretary in accordance with guidelines of the Service.

Pursuant to the Indian Health Amendments of 1992 (Public Law 104-313), a recipient of an Indian Health Professions Scholarship may, at the election of the recipient, meet his/her active duty service obligation prescribed under section 338A of the Public Health Service Act (42 U.S.C. 254l) by a program specified in options (1)-(4) above that:

(i) Is located on the reservation of the Tribe in which the recipient is enrolled; or

(ii) Serves the Tribe in which the recipient is enrolled.

In summary, all recipients of the Indian Health Scholarship (Health Professions) are reminded that recipients of this scholarship incur a service obligation. Moreover, this obligation shall be served at a facility determined by the Director, IHS, consistent with IHCIA, Public Law 94-437, as amended by Public Law 100-713, and Public Law 102-573.

3. Reporting

Scholarship Program Minimum Academic Requirements. It is the policy of the IHS that a scholarship recipient awarded under the Health Professions Scholarship Program of the Indian Health Care Improvement Act maintain a 2.0 cumulative grade point average (GPA) each semester/quarter and be a full-time student (minimum of 12 credit hours considered by your school as full-time). A recipient of a scholarship under the health Professions Pre-graduate and Health Professions Preparatory Scholarship authority must maintain a good academic standing each semester/quarter and be a full time student (minimum of 12 credit hours or the number of credit hours considered by your school as full-time). In addition to the two requirements stated above, a Health Professions Scholarship program grantee must be enrolled in an approved/accredited school for a health professions degree. Part-time students for the three scholarship programs must also maintain a 2.0 cumulative GPA and must take at least 6 credit hours each semester/quarter but less than the number of hours considered full-time by your school. Scholarship grantees must be approved for part-time status at the time of scholarship award. Scholarship grantees may not change from part-time status to full-time status or vice versa in the same academic year. The following reports must be sent to the IHS Scholarship Program at the identified time frame. Each scholarship grantee will be provided with an IHS Scholarship Handbook where the below needed reports are located. If a scholarship grantee fails to submit these reports as required, they will be ineligible for continuation of scholarship support and scholarship award payments will be discontinued.

A. Recipient's Enrollment and Initial Progress Report

Within thirty (30) days from the beginning of each semester or quarter, scholarship grantees must submit a Recipient's Enrollment and Initial Progress Report (Form F-02 of the student handbook).

B. Transcripts

Within thirty (30) days from the end of each academic period, i.e., semester, quarter, or summer session, scholarship grantees must submit an Official Transcript showing the results of the classes taken during that period.

C. Notification of Academic Problem/Change

If at any time during the semester/quarter, scholarship grantees are advised to reduce the number of credit hours for which they are enrolled below the minimum of 12 (or the number of hours considered by their school as full time) for a full-time student or at least 6 hours for part-time students; or if they experience academic problems, they must submit this report (page F-04 of student handbook).

D. Change of Status

• Change of Academic Status. Scholarship Grantees must immediately notify the IHS Area Coordinator if they are placed on academic probation, dismissed from school, or voluntarily withdraw for any reason (personal or medical).

• Change of Health Discipline. Scholarship Grantees may not change from the approved IHS Scholarship Program health discipline during the school year. If an unapproved change is made, scholarship payments will be discontinued.

• Change in Graduation Date. Any time that a change occurs in a scholarship grantee's expected graduation date, they must notify their IHS Area Coordinator immediately in writing. Justification must be attached from the school advisor.

VII. Agency Contacts

Please address application inquiries to the appropriate IHS Area Coordinator. Other programmatic inquiries may be addressed to Mr. Jess Brien, Chief, Scholarship Branch, Indian Health Service, 801 Thompson Avenue, Suite 120, Rockville, Maryland 20852; Telephone (301) 443-6197. (This is not a toll free number.) For grants information, contact Mr. Bernard Covers Up, Grants Scholarship Coordinator, Division of Grants Policy, Indian Health Service, 801 Thompson Avenue, Suite 120, Rockville, Maryland 20852; Telephone (301) 443-5204. (This is not a toll-free number.)

VIII. Other Information

Regulations at 42 CFR part 36.304 provide that the IHS shall, from time to time, publish a list of health professions eligible for consideration for the award of Indian Health Professions Preparatory and Pregraduate Scholarships and Indian Health Scholarships (Professions). Section 104(b)(1) of the IHCIA, as amended by the Indian Health Care Amendment of 1988, Public Law 100-713, authorizes the IHS to determine specific health professions for which Indian Health Scholarships will be awarded.

Interested individuals are reminded that the list of eligible health and allied health professions is effective for applicants for the 2005-2006 academic year. These priorities will remain in effect until superseded. Applicants for health and allied health professions not on the above priority list will be considered pending the availability of funds and dependent upon the availability of qualified applicants in the priority areas.

Dated: January 12, 2005.
Charles W. Grim,
Assistant Surgeon General, Director, Indian Health Service.

[FR Doc. 05-1030 Filed 1-18-05; 8:45 am]

BILLING CODE 4160-16-P